NUCLEAR REGULATORY COMMISSION

Draft Supplements to Revision 9 of NUREG-1021, “Operator Licensing Examination Standards for Power Reactors,” and to Revision 2 of NUREG-1122 [and -1123] “Knowledge and Abilities Catalog for Nuclear Power Plant Operators: Pressurized [Boiling] Water Reactors”

AGENCY: Nuclear Regulatory Commission.

ACTION: Notice of proposed supplements for public comment.

SUMMARY: The Nuclear Regulatory Commission (NRC) has issued for public comment draft supplements to Revision 9 of NUREG-1021, “Operator Licensing Examination Standards for Power Reactors,” and to Revision 2 of NUREG-1122 [and -1123] “Knowledge and Abilities Catalog for Nuclear Power Plant Operators: Pressurized [Boiling] Water Reactors.” These NUREGs provide policy and guidance for the development, administration, and grading of examinations used for licensing operators at nuclear power plants pursuant to the Commission's regulations in 10 CFR Part 55, “Operators” Licenses.” NUREG-1021 also provides guidance for maintaining operators' licenses, and for the NRC to conduct requalification examinations, when necessary.

The draft supplement to Revision 9 of NUREG-1021 includes a number of minor changes that are intended to: (1) Clarify licensed operator medical requirements, including the use of prescription medications; (2) clarify the use of surrogate operators during dynamic simulator scenarios; (3) clarify the selection process for generic knowledge and ability (K/A) statements; (4) qualify the NRC review of post-examination comments; (5) provide additional guidance for maintaining an active license (watchstander proficiency) and license reactivation; and (6) conform with proposed updates to NUREGs-1122 and -1123, which are concurrently available for public comment. The proposed changes are summarized in the Record of Proposed Changes, and identified by highlight/redline and strikeouts.

The draft supplements to NUREGs-1122 and -1123 propose to reword and reorganize Section 2, “Generic Knowledge and Abilities,” and add a new K/A topic to Section 4, “Emergency/Abnormal Plant Evolutions,” to address generator voltage and electric grid disturbances. The proposed changes are summarized in the Record of Changes, and identified by highlight/redline and strikeouts.

Availability: The draft supplements are available electronically via the NRC's Public Electronic Reading Room (http://www.nrc.gov/public-involve/doc-comment.html) and in the NRC's Public Document Room located at 11555 Rockville Pike, Rockville, Maryland. If you do not have electronic access to NRC documents, single copies of the draft supplements are available upon request, by contacting David S. Muller by phone at (301) 415-1412 or by e-mail at dsm3@nrc.gov.

DATES: Comments must be provided by July 23, 2007. Comments received after this date will be considered if practicable to do so, but only those comments received on or before the due date can be assured consideration.

ADDRESSES: Submit written comments to the Chief, Rules, Directives, and Editing Branch, Division of Administrative Services, Office of Administration, U.S. Nuclear Regulatory Commission, Mail Stop T6-D59, Washington, DC 20555-0001, and specify the report number in your comments. You may also provide comments via the NRC's Public Electronic Reading Room by following the instructions at http://www.nrc.gov/public-involve/doc-comment/form.html.

FOR FURTHER INFORMATION CONTACT: David S. Muller, Operator Licensing and Human Performance Branch, Office of Nuclear Reactor Regulation, U.S. Nuclear Regulatory Commission, Washington, DC 20555-001. Telephone: (301) 415-1412; e-mail: dsm3@nrc.gov.

Dated at Rockville, Maryland, this 16th day of May 2007.
For the Nuclear Regulatory Commission.
Nancy L. Salgado,
Chief, Operator Licensing and Human Performance Branch, Division of Inspection and Regional Support, Office of Nuclear Reactor Regulation.

[FR Doc. E7-9848 Filed 5-21-07; 8:45 am]

BILLING CODE 7590-01-P